DEPARTMENT OF STATE

[Public Notice 12243]

RIN 1400-AF74

Exclusive Economic Zone and Maritime Boundaries; Notice of Limits

SUMMARY: This notice provides updated information pertaining to the outer limits of the U.S. exclusive economic zone.

DATES: These limits are in effect as of December 21, 2023.

FOR FURTHER INFORMATION CONTACT: Amanda Williams, Maritime Geographer, Department of State, williamsac3@state.gov.

SUPPLEMENTARY INFORMATION: By Presidential Proclamation No. 5030 made on March 10, 1983, the United States established an exclusive economic zone, within which the United States may exercise its sovereign rights and jurisdiction as permitted under international law. The outer limit of the exclusive economic zone extends to a maximum distance of 200 nautical miles from the baseline from which the breadth of the territorial sea is measured.

The Department of State on behalf of the Government of the United States hereby announces updated information pertaining to the outer limits of the exclusive economic zone of the United States of America. The Government of the United States has been, is, and will be engaged in consultations and negotiations with governments of neighboring countries concerning the delimitation of areas subject to the respective jurisdiction of the United States and of these countries. The outer limits of the exclusive economic zone of the United States as set forth in this notice are without prejudice to any negotiations with these countries or to any positions that may have been or may be adopted respecting the limits of maritime jurisdiction in such areas. Further, the limits of the exclusive economic zone set forth in this notice are without prejudice to the outer limits of the continental shelf of the United States where that shelf extends beyond 200 nautical miles from the baseline from which the breath of the territorial sea is measured in accordance with international law.

This Public Notice supersedes all limits defined in the following Public Notices that variously defined the outer limits of the U.S. fishery conservation zone before 1984 and the U.S. exclusive economic zone beginning in 1983: Public Notice 506, 41 FR 48619 (November 4, 1976); Public Notice 526, 42 FR 12937 (March 7, 1977); Public Notice 544, 42 FR 24134 (May 12, 1977); Public Notice 4710-01, 43 FR 1658 (January 11, 1978); Public Notice 585, 43 FR 1978 (January 11, 1978); Public Notice 910, 49 FR 31973 (August 9, 1984); and Public Notice 2237, 60 FR 43825 (August 23, 1995). This Public Notice incorporates the limits agreed to in treaties that entered into force or are being provisionally applied since publication of Public Notice 2237, is based on more recent survey data, and corrects typographical errors.

The coordinates in this notice use the World Geodetic System 1984 (“WGS 84”) datum, unless otherwise noted. For the purpose of this notice, the North American 1983 Datum (“NAD 83” (1986)) is considered equivalent to WGS 84. Some coordinates in this notice were derived from coordinates that used the North American Datum 1927 (“NAD 27”) or the World Geodetic System 1972 (“WGS 72”) datum. For those coordinates, the conversions to the WGS 84 datum were done using the National Geospatial-Intelligence Agency's Mensuration Services Program (MSP) Geographic Translator (GEOTRANS) version 3.8 and are noted in the relevant footnotes. In the case of a discrepancy, treaties and the judgment given by a Chamber of the International Court of Justice take precedence over the contents of this notice.

The term “straight line” means a geodesic line, which is the shortest distance between two points on the referenced ellipsoid and is the most common method of linking coordinates defining maritime limits and boundaries.

This notice is exempt from the requirements of 5 U.S.C. 553, to the extent those requirements apply, as it relates to a foreign affairs function of the United States. (See Title 5 U.S.C. 553 (a)(1).) This notice “ `clearly and directly' involve[s] activities or actions characteristic of the conduct of international relations,” E.B. v. U.S. Dep't of State, 583 F. Supp. 3d 58, 66 (D.D.C. 2022), because it announces the locations of maritime boundaries agreed between the United States and other countries and the geographic limits within which the United States may exercise sovereign rights and jurisdiction in accordance with international law. See, e.g., City of New York v. Permanent Mission of India to United Nations, 618 F.3d 172, 201 (2d Cir. 2010). Since it is exempt from Section 553, the provisions of 5 U.S.C. 553(d) do not apply, and this notice is in effect upon publication.

Atlantic Ocean and Gulf of Mexico

Gulf of Maine

In the Gulf of Maine area, the outer limit of the exclusive economic zone is defined by straight lines connecting the following points: ¹

¹ Point 1 is from the Canada-U.S. International Boundary Commission (Point TP 15 of the official geographical coordinates of the boundary points in Passamaquoddy Bay, Section 1, in NAD 83). Points 1 to 10 are landward of the U.S. exclusive economic zone and define the limits of the U.S. territorial sea. The U.S. maritime limits from points 1 to 12 in areas adjacent to Canada do not correspond to limits of the maritime zones claimed by Canada, due to the dispute between the United States and Canada relating to the sovereignty over Machias Seal Island and North Rock. The line defined by points 12 to 15 reflects the judgment of a chamber of the International Court of Justice establishing a U.S.-Canada maritime boundary in the Gulf of Maine. Case Concerning Delimitation of the Maritime Boundary in the Gulf of Maine Area, 1984 I.C.J. Reports 246 (Judgment of Oct. 12, 1984). The coordinates in the judgment have been converted from NAD 27 to WGS 84 for the purpose of this Notice.

1. 44°46′35.6″ N, 66°54′09.2″ W

2. 44°44′41″ N, 66°56′15″ W

3. 44°43′56″ N, 66°56′24″ W

4. 44°39′18″ N, 66°57′27″ W

5. 44°36′58″ N, 67°00′34″ W

6. 44°33′27″ N, 67°02′55″ W

7. 44°30′38″ N, 67°02′36″ W

8. 44°29′03″ N, 67°03′40″ W

9. 44°25′27″ N, 67°02′14″ W

10. 44°21′43″ N, 67°02′31″ W

11. 44°14′06″ N, 67°08′36″ W

12. 44°11′12″ N, 67°16′44″ W

13. 42°53′14″ N, 67°44′33″ W

14. 42°31′08″ N, 67°28′03″ W

15. 40°27′05″ N, 65°41′57″ W

Atlantic Ocean

Between points 15 (seaward of the Gulf Maine) and 16 (north of the Straits of Florida), the outer limit of the exclusive economic zone is 200 nautical miles from the baseline from which the breadth of the territorial sea is measured.

From north of the Straits of Florida to the eastern Gulf of Mexico, the outer limit of the exclusive economic zone is defined by straight lines connecting the following points: ²

² Points 113 to 138 correspond to the boundary points set forth in the Maritime Boundary Agreement between the United States of America and the Republic of Cuba, signed December 16, 1977, Senate Treaty Doc. 96-8. The treaty has been applied provisionally since January 1, 1978. The coordinates in the treaty have been converted from NAD 27 to WGS 84 for the purpose of this Notice. Point 139 corresponds to boundary point 1 set forth in the Treaty between the United States of America and the Republic of Cuba on the Delimitation of the Continental Shelf in the Eastern Gulf of Mexico beyond 200 Nautical Miles, signed January 18, 2017. The treaty has been applied provisionally since January 18, 2017.

16. 28°17′11″ N, 76°36′44″ W

17. 28°17′11″ N, 79°11′23″ W

18. 27°52′55″ N, 79°28′35″ W

19. 27°26′01″ N, 79°31′37″ W

20. 27°16′13″ N, 79°34′17″ W

21. 27°11′54″ N, 79°34′55″ W

22. 27°05′59″ N, 79°35′18″ W

23. 27°00′28″ N, 79°35′16″ W

24. 26°55′16″ N, 79°34′38″ W

25. 26°53′58″ N, 79°34′26″ W

26. 26°45′46″ N, 79°32′40″ W

27. 26°44′30″ N, 79°32′22″ W

28. 26°43′40″ N, 79°32′19″ W

29. 26°41′12″ N, 79°32′00″ W

30. 26°38′13″ N, 79°31′32″ W

31. 26°36′30″ N, 79°31′06″ W

32. 26°35′21″ N, 79°30′49″ W

33. 26°34′51″ N, 79°30′45″ W

34. 26°34′11″ N, 79°30′37″ W

35. 26°31′12″ N, 79°30′14″ W

36. 26°29′05″ N, 79°29′52″ W

37. 26°25′31″ N, 79°29′57″ W

38. 26°23′29″ N, 79°29′54″ W

39. 26°23′21″ N, 79°29′53″ W

40. 26°18′57″ N, 79°31′54″ W

41. 26°15′26″ N, 79°33′16″ W

42. 26°15′13″ N, 79°33′22″ W

43. 26°08′09″ N, 79°35′52″ W

44. 26°07′47″ N, 79°36′08″ W

45. 26°06′59″ N, 79°36′34″ W

46. 26°02′52″ N, 79°38′21″ W

47. 25°59′30″ N, 79°40′02″ W

48. 25°59′16″ N, 79°40′07″ W

49. 25°57′48″ N, 79°40′37″ W

50. 25°56′18″ N, 79°41′05″ W

51. 25°54′04″ N, 79°41′37″ W

52. 25°53′24″ N, 79°41′45″ W

53. 25°51′54″ N, 79°41′58″ W

54. 25°49′33″ N, 79°42′15″ W

55. 25°48′24″ N, 79°42′22″ W

56. 25°48′20″ N, 79°42′23″ W

57. 25°46′26″ N, 79°42′43″ W

58. 25°46′16″ N, 79°42′44″ W

59. 25°43′40″ N, 79°42′58″ W

60. 25°42′31″ N, 79°42′47″ W

61. 25°40′37″ N, 79°42′26″ W

62. 25°37′24″ N, 79°42′26″ W

63. 25°37′08″ N, 79°42′26″ W

64. 25°31′03″ N, 79°42′11″ W

65. 25°27′59″ N, 79°42′10″ W

66. 25°24′05″ N, 79°42′11″ W

67. 25°22′22″ N, 79°42′19″ W

68. 25°21′30″ N, 79°42′07″ W

69. 25°16′53″ N, 79°41′23″ W

70. 25°15′58″ N, 79°41′30″ W

71. 25°10′40″ N, 79°41′30″ W

72. 25°09′52″ N, 79°41′35″ W

73. 25°09′04″ N, 79°41′44″ W

74. 25°03′55″ N, 79°42′29″ W

75. 25°03′00″ N, 79°42′56″ W

76. 25°00′30″ N, 79°44′05″ W

77. 24°59′03″ N, 79°44′48″ W

78. 24°55′28″ N, 79°45′57″ W

79. 24°44′18″ N, 79°49′24″ W

80. 24°43′04″ N, 79°49′38″ W

81. 24°42′36″ N, 79°50′50″ W

82. 24°41′47″ N, 79°52′57″ W

83. 24°38′32″ N, 79°59′58″ W

84. 24°36′27″ N, 80°03′51″ W

85. 24°33′18″ N, 80°12′43″ W

86. 24°33′05″ N, 80°13′21″ W

87. 24°32′13″ N, 80°15′16″ W

88. 24°31′27″ N, 80°16′55″ W

89. 24°30′57″ N, 80°17′47″ W

90. 24°30′14″ N, 80°19′21″ W

91. 24°30′06″ N, 80°19′44″ W

92. 24°29′38″ N, 80°21′05″ W

93. 24°28′18″ N, 80°24′35″ W

94. 24°28′06″ N, 80°25′10″ W

95. 24°27′23″ N, 80°27′20″ W

96. 24°26′30″ N, 80°29′30″ W

97. 24°25′07″ N, 80°32′22″ W

98. 24°23′30″ N, 80°36′09″ W

99. 24°22′33″ N, 80°38′56″ W

100. 24°22′07″ N, 80°39′51″ W

101. 24°19′31″ N, 80°45′21″ W

102. 24°19′16″ N, 80°45′47″ W

103. 24°18′38″ N, 80°46′49″ W

104. 24°18′35″ N, 80°46′54″ W

105. 24°09′51″ N, 80°59′47″ W

106. 24°09′48″ N, 80°59′51″ W

107. 24°08′58″ N, 81°01′07″ W

108. 24°08′30″ N, 81°01′51″ W

109. 24°08′26″ N, 81°01′57″ W

110. 24°07′28″ N, 81°03′06″ W

111. 24°02′20″ N, 81°09′05″ W

112. 24°00′00″ N, 81°11′15″ W

113. 23°55′32″ N, 81°12′54″ W

114. 23°53′52″ N, 81°19′43″ W

115. 23°50′52″ N, 81°29′59″ W

116. 23°50′02″ N, 81°39′59″ W

117. 23°49′05″ N, 81°50′00″ W

118. 23°49′05″ N, 82°00′12″ W

119. 23°49′42″ N, 82°10′00″ W

120. 23°51′14″ N, 82°25′00″ W

121. 23°51′14″ N, 82°40′00″ W

122. 23°49′42″ N, 82°48′54″ W

123. 23°49′32″ N, 82°51′12″ W

124. 23°49′24″ N, 83°00′00″ W

125. 23°49′52″ N, 83°15′00″ W

126. 23°51′22″ N, 83°25′50″ W

127. 23°52′27″ N, 83°33′02″ W

128. 23°54′04″ N, 83°41′36″ W

129. 23°55′47″ N, 83°48′12″ W

130. 23°58′38″ N, 84°00′00″ W

131. 24°09′37″ N, 84°29′28″ W

132. 24°13′20″ N, 84°38′40″ W

133. 24°16′41″ N, 84°46′08″ W

134. 24°23′30″ N, 85°00′00″ W

135. 24°26′37″ N, 85°06′20″ W

136. 24°38′57″ N, 85°31′55″ W

137. 24°44′17″ N, 85°43′12″ W

138. 24°53′57″ N, 86°00′00″ W

139. 25°12′26.28″ N, 86°33′11.91″ W

Gulf of Mexico

In the eastern Gulf of Mexico, between points 139 and 140, the outer limit of the exclusive economic zone is 200 nautical miles from the baseline from which the breadth of the territorial sea is measured. The 200 nautical mile exclusive economic zone limit in this area intersects with the line connecting points 138 and 139 and with the line connecting points 140 and 141.

In the central Gulf of Mexico, the outer limit of the exclusive economic zone is determined by straight lines connecting the following points: ³

³ Points 140 and 141 corresponds to boundary points 2 and 1, respectively, set forth in the Treaty between the Government of the United States of America and the Government of the United Mexican States on the Delimitation of the Maritime Boundary in the Eastern Gulf of Mexico, signed January 18, 2017, not in force. Point 142 corresponds to boundary point GM.E-2 set forth in the Treaty on Maritime Boundaries Between the United States of America and the United Mexican States, signed May 4, 1978, entered into force November 13, 1997, TIAS 97-1113 (“U.S.-Mexico Treaty of 1978”). This point has been converted from NAD 27 to WGS 84 for the purpose of this Notice. Point 143 corresponds to boundary point 1 set forth in the Treaty between the Government of the United States of America and the Government of the United Mexican States on the Delimitation of the Continental Shelf in the Western Gulf of Mexico beyond 200 Nautical Miles, signed June 9, 2000, entered into force January 17, 2001 (“U.S.-Mexico Treaty of 2000”). Coordinates in this treaty are expressed in NAD 83.

140. 25°41′54.18″ N, 88°20′02.64″ W

141. 25°41′57.90″ N, 88°23′05.62″ W

142. 25°46′53.47″ N, 90°29′41.37″ W

143. 25°42′14.1″ N, 91°05′25.0″ W

In the western Gulf of Mexico, between points 143 and 144, the outer limit of the exclusive economic zone is 200 nautical miles from the baseline from which the breadth of the territorial sea is measured. The 200 nautical mile exclusive economic zone limit in this area intersects with the line connecting points 142 and 143 and with the line connecting points 144 and 145.

To the west, the outer limit is defined by straight lines connecting the following points: ⁴

⁴ Point 144 corresponds to boundary point 16 set forth in the U.S.-Mexico Treaty of 2000 (footnote 3 of this Notice). Points 145 to 147 correspond to boundary points GM.W-3 to GM.W-1 set forth in the U.S.-Mexico Treaty of 1978 (footnote 3 of this Notice) and have been converted from NAD 27 to WGS 84 for the purpose of this Notice.

144. 25°59′49.3″ N, 93°26′42.5″ W

145. 26°00′31.42″ N, 95°39′26.89″ W

146. 26°00′32.41″ N, 96°48′30.01″ W

147. 25°58′31.98″ N, 96°55′28.39″ W

From point 147 westward, the limit of United States jurisdiction is the territorial sea boundary with Mexico.⁵

⁵ Treaty to Resolve Pending Boundary Differences and Maintain the Rio Grande and Colorado River as the International Boundary Between the United States of America and the United Mexican States, article V(A) and annexes, signed November 23, 1970, entered into force April 18, 1972, TIAS 7313, 23 UST 371, 830 UNTS 57 (“U.S.-Mexico Treaty of 1970”).

Caribbean Sea

Commonwealth of Puerto Rico and the United States Virgin Islands

The outer limit of the exclusive economic zone around the Commonwealth of Puerto Rico and the Virgin Islands of the United States is 200 nautical miles from the baseline from which the breadth of the territorial sea is measured, except that to the east, south, and west, the limit is defined by straight lines connecting the following points: ⁶

⁶ Points 1 to 50 correspond to the boundary points set forth in the Treaty between the Government of the United Kingdom of Great Britain and Northern Ireland and the Government of the United States of America on the Delimitation in the Caribbean of a Maritime Boundary relating to Puerto Rico/U.S. Virgin Islands and the British Virgin Islands, signed November 5, 1993, entered into force on June 1, 1995, 1913 UNTS 67. Points 50 to 51 correspond to the boundary points set forth in the Treaty between the Government of the United Kingdom of Great Britain and Northern Ireland and the Government of the United States of America on the Delimitation in the Caribbean of a Maritime Boundary relating to the U.S. Virgin Islands and Anguilla signed November 4, 1993, entered into force June 1, 1995, 1913 UNTS 59. Coordinates in these treaties are expressed in NAD 83. Points 57 to 78 correspond to the boundary points set forth in the Maritime Boundary Treaty between the United States of America and the Republic of Venezuela, signed March 28, 1978, entered into force November 24, 1980, TIAS 9890, 32 UST 3100, 1273 UNTS 25. Coordinates in this treaty are expressed in NAD 27 and have been converted to WGS 84 for the purpose of this Notice.

1. 21°48′33″ N, 65°50′31″ W

2. 21°41′20″ N, 65°49′13″ W

3. 20°58′05″ N, 65°40′30″ W

4. 20°46′56″ N, 65°38′14″ W

5. 19°57′29″ N, 65°27′21″ W

6. 19°37′29″ N, 65°20′57″ W

7. 19°12′25″ N, 65°06′08″ W

8. 18°45′14″ N, 65°00′22″ W

9. 18°41′14″ N, 64°59′33″ W

10. 18°29′22″ N, 64°53′50″ W

11. 18°27′36″ N, 64°53′22″ W

12. 18°25′22″ N, 64°52′39″ W

13. 18°24′31″ N, 64°52′19″ W

14. 18°23′51″ N, 64°51′50″ W

15. 18°23′43″ N, 64°51′23″ W

16. 18°23′37″ N, 64°50′18″ W

17. 18°23′48″ N, 64°49′42″ W

18. 18°24′11″ N, 64°49′01″ W

19. 18°24′29″ N, 64°47′57″ W

20. 18°24′18″ N, 64°47′00″ W

21. 18°23′14″ N, 64°46′37″ W

22. 18°22′38″ N, 64°45′21″ W

23. 18°22′40″ N, 64°44′42″ W

24. 18°22′42″ N, 64°44′36″ W

25. 18°22′37″ N, 64°44′24″ W

26. 18°22′40″ N, 64°43′42″ W

27. 18°22′30″ N, 64°43′36″ W

28. 18°22′25″ N, 64°42′58″ W

29. 18°22′27″ N, 64°42′28″ W

30. 18°22′16″ N, 64°42′03″ W

31. 18°22′23″ N, 64°40′59″ W

32. 18°21′58″ N, 64°40′15″ W

33. 18°21′51″ N, 64°38′22″ W

34. 18°21′22″ N, 64°38′16″ W

35. 18°20′39″ N, 64°38′32″ W

36. 18°19′16″ N, 64°38′13″ W

37. 18°19′07″ N, 64°38′16″ W

38. 18°17′24″ N, 64°39′37″ W

39. 18°16′43″ N, 64°39′41″ W

40. 18°11′34″ N, 64°38′58″ W

41. 18°03′03″ N, 64°38′03″ W

42. 18°02′57″ N, 64°29′35″ W

43. 18°02′52″ N, 64°27′03″ W

44. 18°02′30″ N, 64°21′08″ W

45. 18°02′31″ N, 64°20′08″ W

46. 18°02′01″ N, 64°15′39″ W

47. 18°00′12″ N, 64°02′29″ W

48. 17°59′58″ N, 64°01′02″ W

49. 17°58′47″ N, 63°57′00″ W

50. 17°57′51″ N, 63°53′53″ W

51. 17°56′37″ N, 63°53′20″ W

52. 17°39′50″ N, 63°54′52″ W

53. 17°37′17″ N, 63°55′09″ W

54. 17°30′31″ N, 63°55′55″ W

55. 17°11′46″ N, 63°57′58″ W

56. 17°05′10″ N, 63°58′40″ W

57. 16°44′52″ N, 64°01′06″ W

58. 16°43′25″ N, 64°06′29″ W

59. 16°43′13″ N, 64°06′57″ W

60. 16°42′43″ N, 64°08′04″ W

61. 16°41′46″ N, 64°10′05″ W

62. 16°35′22″ N, 64°23′37″ W

63. 16°23′33″ N, 64°45′52″ W

64. 15°39′34″ N, 65°58′39″ W

65. 15°30′13″ N, 66°07′07″ W

66. 15°14′09″ N, 66°19′55″ W

67. 14°55′51″ N, 66°34′28″ W

68. 14°56′09″ N, 66°51′38″ W

69. 14°58′30″ N, 67°04′17″ W

70. 14°58′48″ N, 67°05′15″ W

71. 14°59′01″ N, 67°06′09″ W

72. 14°59′13″ N, 67°06′58″ W

73. 15°02′35″ N, 67°23′38″ W

74. 15°05′10″ N, 67°36′21″ W

75. 15°10′41″ N, 68°03′44″ W

76. 15°11′09″ N, 68°09′19″ W

77. 15°12′36″ N, 68°27′30″ W

78. 15°12′54″ N, 68°28′54″ W

79. 15°46′49″ N, 68°26′02″ W

80. 17°21′33″ N, 68°17′51″ W

81. 17°38′04″ N, 68°16′44″ W

82. 17°50′26″ N, 68°16′09″ W

83. 17°58′09″ N, 68°15′50″ W

84. 18°02′30″ N, 68°15′38″ W

85. 18°06′12″ N, 68°15′25″ W

86. 18°07′29″ N, 68°15′31″ W

87. 18°09′14″ N, 68°14′51″ W

88. 18°17′08″ N, 68°11′26″ W

89. 18°19′22″ N, 68°09′38″ W

90. 18°22′44″ N, 68°06′55″ W

91. 18°24′41″ N, 68°04′56″ W

92. 18°25′27″ N, 68°04′07″ W

93. 18°28′10″ N, 68°00′57″ W

94. 18°31′29″ N, 67°56′55″ W

95. 18°33′00″ N, 67°55′05″ W

96. 18°34′36″ N, 67°52′51″ W

97. 18°54′39″ N, 67°46′19″ W

98. 19°00′44″ N, 67°44′23″ W

99. 19°10′02″ N, 67°41′22″ W

100. 19°19′05″ N, 67°38′17″ W

101. 19°21′22″ N, 67°37′59″ W

102. 19°59′47″ N, 67°31′50″ W

103. 20°01′01″ N, 67°31′33″ W

104. 20°01′19″ N, 67°31′27″ W

105. 20°02′51″ N, 67°31′02″ W

106. 20°03′32″ N, 67°30′50″ W

107. 20°09′30″ N, 67°29′09″ W

108. 20°48′20″ N, 67°17′48″ W

109. 21°22′50″ N, 67°02′32″ W

110. 21°30′20″ N, 66°59′03″ W

111. 21°33′49″ N, 66°57′28″ W

112. 21°51′26″ N, 66°49′28″ W

Navassa Island

The outer limits of the exclusive economic zone around Navassa Island remain to be determined.

Pacific Ocean (Washington, Oregon, and California)

In the area seaward of the Strait of Juan de Fuca (Washington), the outer limit of the exclusive economic zone is defined by straight lines connecting the following points: ⁷

⁷ The U.S. maritime limits in areas adjacent to Canada seaward of the Strait of Juan de Fuca do not correspond to limits of the maritime zones claimed by Canada. Point 1 is from the Canada-U.S. International Boundary Commission (Point TP 12 of the official geographical coordinates of the boundary points for the Straits of Georgia and Juan de Fuca, Section 26, in NAD 83). Points 1 to 6 are landward of the U.S. exclusive economic zone and define the limits of the U.S. territorial sea.

1. 48°29′36.4″ N, 124°43′38.1″ W

2. 48°30′10″ N, 124°47′18″ W

3. 48°30′21″ N, 124°50′26″ W

4. 48°30′13″ N, 124°54′57″ W

5. 48°29′56″ N, 124°59′19″ W

6. 48°29′43″ N, 125°00′11″ W

7. 48°28′08″ N, 125°05′52″ W

8. 48°27′09″ N, 125°08′30″ W

9. 48°26′46″ N, 125°09′17″ W

10. 48°20′15″ N, 125°22′53″ W

11. 48°18′21″ N, 125°30′03″ W

12. 48°11′04″ N, 125°53′53″ W

13. 47°49′14″ N, 126°41′02″ W

14. 47°36′46″ N, 127°12′03″ W

15. 47°21′59″ N, 127°41′28″ W

16. 46°42′04″ N, 128°52′01″ W

17. 46°31′46″ N, 129°07′44″ W

Between point 17 (seaward of the Strait of Juan de Fuca) and 18 (off the southern California coast), the outer limit of the exclusive economic zone is 200 nautical miles from the baseline from which the breadth of the territorial sea is measured.

In the area off the southern California coast, the outer limit of the exclusive economic zone is defined by straight lines connecting the following points: ⁸

⁸ Points 18 to 21 correspond to the boundary points set forth in the U.S.-Mexico Treaty of 1978 (footnote 3 of this Notice). Coordinates in this treaty are expressed in NAD 27 and have been converted to WGS 84 for the purpose of this Notice.

18. 30°32′31.50″ N, 121°52′01.77″ W

19. 31°07′58.32″ N, 118°36′21.14″ W

20. 32°37′37.18″ N, 117°49′34.12″ W

21. 32°35′22.30″ N, 117°27′52.50″ W

From point 21 to the coast, the limit of United States jurisdiction is the territorial sea boundary with Mexico.⁹

⁹ U.S.-Mexico Treaty of 1970 (footnote 5 of this Notice), article V(B) and annexes.

Arctic Ocean and Pacific Ocean (Alaska)

Beaufort Sea

Off the coast of Alaska, in the Beaufort Sea, the outer limit of exclusive economic zone is defined by straight lines connecting the following points: ¹⁰

¹⁰ The U.S. maritime limits in areas adjacent to Canada in the Beaufort Sea do not correspond to limits of the maritime zones claimed by Canada. Point 1 is from the Canada-U.S. International Boundary Commission (Point SITE MON 1 of the official geographical coordinates of the boundary points for the 141st Meridian, Section 29, in NAD 83). Points 1 to 7 are landward of the U.S. exclusive economic zone and define the limits of the U.S. territorial sea.

1. 69°38′47.810″ N, 141°00′02.129″ W

2. 69°38′51″ N, 141°00′01″ W

3. 69°39′36″ N, 140°59′11″ W

4. 69°40′09″ N, 140°58′44″ W

5. 69°41′29″ N, 140°57′10″ W

6. 69°46′24″ N, 140°49′55″ W

7. 69°47′53″ N, 140°47′17″ W

8. 69°51′39″ N, 140°42′47″ W

9. 70°09′25″ N, 140°19′32″ W

10. 70°11′29″ N, 140°18′19″ W

11. 70°29′07″ N, 140°10′01″ W

12. 70°29′19″ N, 140°09′55″ W

13. 70°37′31″ N, 140°02′57″ W

14. 70°48′25″ N, 139°52′42″ W

15. 70°58′02″ N, 139°47′27″ W

16. 71°01′15″ N, 139°44′35″ W

17. 71°11′58″ N, 139°34′09″ W

18. 71°23′10″ N, 139°21′57″ W

19. 72°12′18″ N, 138°26′30″ W

20. 72°46′39″ N, 137°30′13″ W

21. 72°56′49″ N, 137°34′19″ W

Beaufort Sea, Chukchi Sea, and Bering Sea

Between point 21 (Beaufort Sea) and point 22 (Chukchi Sea), the outer limit of the exclusive economic zone is 200 nautical miles from the baseline from which the breadth of the territorial sea is measured.

From the Chukchi Sea through the Bering Strait to the northern Bering Sea, the outer limit of the exclusive economic zone is defined by straight lines connecting the following points: ¹¹

¹¹ Point 22 is located at a distance of 200 nautical miles from the territorial sea baselines of the United States on the U.S.-Russia maritime boundary established by the Agreement between the United States of America and The Union of Soviet Socialist Republics on the Maritime Boundary (“U.S.-Russia Agreement of 1990”), signed June 1, 1990, Senate Treaty Doc. 101-22, and applied provisionally, pending its entry into force, by an exchange of notes effective June 15, 1990, TIAS 11451. (The Russian Federation is the successor of the USSR with respect to the 1990 Agreement and the agreement to provisionally apply it.) Points 23 to 58 correspond to boundary points 1 to 36 set forth in the U.S.-Russia Agreement of 1990. The coordinates set forth in the U.S.-Russia Agreement of 1990 are expressed in WGS 84.

22. 72°46′29″ N, 168°58′37″ W

23. 65°30′00″ N, 168°58′37″ W

24. 65°19′58″ N, 169°21′38″ W

25. 65°09′51″ N, 169°44′34″ W

26. 64°59′41″ N, 170°07′23″ W

27. 64°49′26″ N, 170°30′06″ W

28. 64°39′08″ N, 170°52′43″ W

29. 64°28′46″ N, 171°15′14″ W

30. 64°18′20″ N, 171°37′40″ W

31. 64°07′50″ N, 172°00′00″ W

32. 63°59′27″ N, 172°18′39″ W

33. 63°51′01″ N, 172°37′13″ W

34. 63°42′33″ N, 172°55′42″ W

35. 63°34′01″ N, 173°14′07″ W

36. 63°25′27″ N, 173°32′27″ W

37. 63°16′50″ N, 173°50′42″ W

38. 63°08′11″ N, 174°08′52″ W

39. 62°59′29″ N, 174°26′58″ W

40. 62°50′44″ N, 174°44′59″ W

41. 62°41′56″ N, 175°02′56″ W

42. 62°33′06″ N, 175°20′48″ W

43. 62°24′13″ N, 175°38′36″ W

44. 62°15′17″ N, 175°56′19″ W

45. 62°06′19″ N, 176°13′59″ W

46. 61°57′18″ N, 176°31′34″ W

47. 61°48′14″ N, 176°49′04″ W

48. 61°39′08″ N, 177°06′31″ W

49. 61°29′59″ N, 177°23′53″ W

50. 61°20′47″ N, 177°41′11″ W

51. 61°11′33″ N, 177°58′26″ W

52. 61°02′17″ N, 178°15′36″ W

53. 60°52′57″ N, 178°32′42″ W

54. 60°43′35″ N, 178°49′45″ W

55. 60°34′11″ N, 179°06′44″ W

56. 60°24′44″ N, 179°23′38″ W

57. 60°15′14″ N, 179°40′30″ W

58. 60°11′39″ N, 179°46′49″ W

Bering Sea and North Pacific Ocean

In the Bering Sea, between points 58 and 59, the outer limit of the exclusive economic zone is 200 nautical miles from the baseline from which the breadth of the territorial sea is measured.

In the southern Bering Sea and North Pacific Ocean, the outer limit of the exclusive economic zone is defined by straight lines connecting the following points: ¹²

¹² Point 59 is located at a distance of 200 nautical miles from the territorial sea baselines of the United States between points 55 and 56 of the U.S.-Russia maritime boundary (footnote 11 of this Notice). Points 60 to 86 correspond to boundary points 56 to 82. Point 87 is located at a distance of 200 nautical miles from the territorial sea baselines of the United States on the U.S.-Russia maritime boundary, between boundary points 82 and 83.

59. 56°16′50.52″ N, 173°59′31.30″ E

60. 56°15′07″ N, 173°56′56″ E

61. 56°04′34″ N, 173°41′08″ E

62. 55°53′59″ N, 173°25′22″ E

63. 55°43′22″ N, 173°09′37″ E

64. 55°32′42″ N, 172°53′55″ E

65. 55°21′59″ N, 172°38′14″ E

66. 55°11′14″ N, 172°22′36″ E

67. 55°00′26″ N, 172°06′59″ E

68. 54°49′36″ N, 171°51′24″ E

69. 54°38′43″ N, 171°35′51″ E

70. 54°27′48″ N, 171°20′20″ E

71. 54°16′50″ N, 171°04′50″ E

72. 54°05′50″ N, 170°49′22″ E

73. 53°54′47″ N, 170°33′56″ E

74. 53°43′42″ N, 170°18′31″ E

75. 53°32′46″ N, 170°05′29″ E

76. 53°21′48″ N, 169°52′32″ E

77. 53°10′49″ N, 169°39′40″ E

78. 52°59′48″ N, 169°26′53″ E

79. 52°48′46″ N, 169°14′12″ E

80. 52°37′43″ N, 169°01′36″ E

81. 52°26′38″ N, 168°49′05″ E

82. 52°15′31″ N, 168°36′39″ E

83. 52°04′23″ N, 168°24′17″ E

84. 51°53′14″ N, 168°12′01″ E

85. 51°42′03″ N, 167°59′49″ E

86. 51°30′51″ N, 167°47′42″ E

87. 51°22′13.88″ N, 167°38′27.40″ E

In the North Pacific Ocean, between points 87 and 88, the outer limit of the exclusive economic zone is 200 nautical miles from the baseline from which the breadth of the territorial sea is measured.

From point 88, the limit of the exclusive economic zone off the coast of Alaska, seaward of the Dixon Entrance, is defined by straight lines connecting the following points: ¹³

¹³ The U.S. maritime limits in areas adjacent to Canada in, and seaward of, the Dixon Entrance do not correspond to the limits of maritime zones claimed by Canada. Points 117 to 146 are landward of the U.S. exclusive economic zone and define the limits of the U.S. territorial sea. Point 146 is from the Canada-U.S. International Boundary Commission (Point TP 1 of the official geographical coordinates of the boundary points for the Portland Canal, Section 27, in NAD 83). Where the claimed limits published by the United States and Canada leave an unclaimed area within Dixon Entrance, the United States will exercise fishery management jurisdiction to the Canadian claimed line where that line is situated southward of the United States claimed line, until such time as a maritime boundary with Canada is established in the Dixon Entrance.

88. 53°28′25″ N, 138°45′26″ W

89. 53°59′59″ N, 135°46′03″ W

90. 54°07′28″ N, 134°56′29″ W

91. 54°12′43″ N, 134°25′08″ W

92. 54°12′55″ N, 134°23′52″ W

93. 54°15′38″ N, 134°10′54″ W

94. 54°20′31″ N, 133°49′26″ W

95. 54°21′59″ N, 133°44′29″ W

96. 54°30′04″ N, 133°17′03″ W

97. 54°31′00″ N, 133°14′05″ W

98. 54°30′40″ N, 133°11′33″ W

99. 54°30′08″ N, 133°07′48″ W

100. 54°30′01″ N, 133°07′05″ W

101. 54°28′30″ N, 132°56′33″ W

102. 54°28′23″ N, 132°55′59″ W

103. 54°27′21″ N, 132°50′47″ W

104. 54°27′05″ N, 132°49′40″ W

105. 54°25′58″ N, 132°44′17″ W

106. 54°24′52″ N, 132°39′51″ W

107. 54°24′32″ N, 132°38′21″ W

108. 54°24′37″ N, 132°26′56″ W

109. 54°24′39″ N, 132°24′40″ W

110. 54°24′39″ N, 132°24′34″ W

111. 54°24′50″ N, 132°23′44″ W

112. 54°21′49″ N, 132°02′59″ W

113. 54°26′40″ N, 131°49′33″ W

114. 54°28′17″ N, 131°45′25″ W

115. 54°30′31″ N, 131°38′06″ W

116. 54°29′52″ N, 131°33′53″ W

117. 54°36′52″ N, 131°19′27″ W

118. 54°39′08″ N, 131°16′22″ W

119. 54°40′51″ N, 131°13′59″ W

120. 54°42′10″ N, 131°13′05″ W

121. 54°46′15″ N, 131°04′48″ W

122. 54°45′38″ N, 131°03′11″ W

123. 54°44′11″ N, 130°59′49″ W

124. 54°43′45″ N, 130°59′00″ W

125. 54°42′59″ N, 130°57′46″ W

126. 54°42′33″ N, 130°57′14″ W

127. 54°42′26″ N, 130°56′23″ W

128. 54°41′25″ N, 130°53′44″ W

129. 54°41′20″ N, 130°53′23″ W

130. 54°41′04″ N, 130°49′22″ W

131. 54°41′05″ N, 130°48′36″ W

132. 54°40′45″ N, 130°45′56″ W

133. 54°40′40″ N, 130°45′04″ W

134. 54°40′41″ N, 130°44′48″ W

135. 54°40′02″ N, 130°42′27″ W

136. 54°39′47″ N, 130°41′40″ W

137. 54°39′13″ N, 130°39′23″ W

138. 54°39′53″ N, 130°39′03″ W

139. 54°41′08″ N, 130°39′03″ W

140. 54°42′21″ N, 130°38′31″ W

141. 54°42′46″ N, 130°38′11″ W

142. 54°42′57″ N, 130°38′02″ W

143. 54°42′59″ N, 130°38′00″ W

144. 54°43′14″ N, 130°37′49″ W

145. 54°43′23″ N, 130°37′44″ W

146. 54°43′29.0″ N, 130°37′43.1″ W

Special Areas Pertaining to the U.S.-Russia Maritime Boundary

The 1990 Agreement between the United States of America and the Union of Soviet Socialist Republics on the Maritime Boundary (U.S.-Russia Agreement of 1990) recognizes areas on the east side (i.e., U.S. side) of the U.S.-Russia maritime boundary that are within 200 nautical miles of the baselines from which the breadth of the territorial sea of the Russian Federation is measured but beyond 200 nautical miles of the baseline from which the breadth of the territorial sea of the United States is measured (“Eastern Special Areas”).¹⁴ Pursuant to article 3 of the U.S.-Russia Agreement of 1990, within Eastern Special Areas the United States may exercise the sovereign rights and jurisdiction derived from exclusive economic zone jurisdiction that the Russian Federation would otherwise be entitled to exercise under international law in the absence of the agreement of the two countries on the maritime boundary. The exercise of sovereign rights or jurisdiction by the United States in the three Eastern Special Areas described in this notice derives from the U.S.-Russia Agreement of 1990 and does not constitute an extension of the U.S. exclusive economic zone under international law.

¹⁴ U.S.-Russia Agreement of 1990 (footnote 11 of this Notice), article 3.

Pacific Ocean (Hawaii and U.S. Territories)

Hawaii and Midway Islands ¹⁵

¹⁵ This description covers all islands that are part of the U.S. state of Hawaii, including the Northwestern Hawaiian Islands.

The outer limit of the exclusive economic zone is 200 nautical miles from the baselines from which the breadth of the territorial sea is measured.

Northern Mariana Islands and Guam

The outer limit of the exclusive economic zone is 200 nautical miles from the baseline from which the breadth of the territorial sea is measured, except that to the north of the Northern Mariana Islands, the limit is defined by straight lines connecting the following points: ¹⁶

¹⁶ Points 1 to 12 correspond to the points defining the line of delimitation between the United States and Japan as set forth in an Exchange of Notes dated July 5, 1994. Points 1 to 12 are expressed in WGS 84. In this regard, users should be aware that the Government of Japan defines points 1 to 12 on the Tokyo Datum, and the location of those points may differ from those published in this Notice.

1. 23°53′35″ N, 145°05′46″ E

2. 23°44′32″ N, 144°54′05″ E

3. 23°33′52″ N, 144°40′23″ E

4. 23°16′11″ N, 144°17′47″ E

5. 22°50′13″ N, 143°44′57″ E

6. 22°18′13″ N, 143°05′02″ E

7. 21°53′58″ N, 142°35′03″ E

8. 21°42′14″ N, 142°20′39″ E

9. 21°40′08″ N, 142°18′05″ E

10. 21°28′21″ N, 142°03′45″ E

11. 20°58′24″ N, 141°27′33″ E

12. 20°52′51″ N, 141°20′54″ E

and, except that to the south of Guam, the limit is defined by straight lines connecting the following points: ¹⁷

¹⁷ Points 13 to 28 correspond to the boundary points set forth in the Treaty between the Government of the United States of America and the Government of the Federated States of Micronesia on the Delimitation of a Maritime Boundary, signed August 1, 2014, entered into force July 18, 2019, TIAS 19-718.

13. 13°05′51.5″ N, 141°13′07.5″ E

14. 12°55′00.6″ N, 141°20′49.9″ E

15. 12°33′14.0″ N, 141°39′56.5″ E

16. 11°37′33.8″ N, 142°28′23.2″ E

17. 11°10′41.6″ N, 142°51′38.2″ E

18. 10°57′54.8″ N, 143°02′39.7″ E

19. 10°57′14.3″ N, 143°28′21.4″ E

20. 11°08′29.1″ N, 144°29′55.2″ E

21. 11°13′19.3″ N, 144°56′45.7″ E

22. 11°17′36.6″ N, 145°23′45.1″ E

23. 11°22′08.6″ N, 145°52′47.4″ E

24. 11°28′05.6″ N, 146°31′35.8″ E

25. 11°31′12.0″ N, 146°52′07.4″ E

26. 11°33′58.8″ N, 147°11′37.9″ E

27. 11°36′51.1″ N, 147°31′56.6″ E

28. 11°38′03.0″ N, 147°44′32.6″ E

Johnston Atoll

The outer limit of the exclusive economic zone is 200 nautical miles from the baselines from which the breadth of the territorial sea is measured.

American Samoa

The outer limit of the exclusive economic zone is defined by straight lines connecting the following points: ¹⁸

¹⁸ Points 1 to 8 correspond to the boundary points set forth in the Treaty between the United States of America and New Zealand on the Delimitation of the Maritime Boundary between Tokelau and the United States of America, signed December 2, 1980, entered into force September 3, 1983, TIAS 10775. Points 8 to 32 correspond to the boundary points set forth in the Treaty between the United States of America and the Cook Islands on Friendship and Delimitation of the Maritime Boundary between the United States of America and the Cook Islands, signed June 11, 1980, entered into force September 8, 1983, TIAS 10774. For points 1 to 32, the coordinates set forth in the treaties were expressed in WGS 72 and have been converted to WGS 84 for the purpose of this Notice. Points 33 to 51 correspond to the boundary points set forth in the Treaty between the Government of the United States of America and the Government of Niue on the Delimitation of a Maritime Boundary, signed May 13, 1997, entered into force August 1, 2002, TIAS 14-1007.

1. 11°02′17″ S, 173°44′47″ W

2. 10°46′15″ S, 173°03′52″ W

3. 10°25′26″ S, 172°11′00″ W

4. 10°17′50″ S, 171°50′57″ W

5. 10°15′17″ S, 171°15′31″ W

6. 10°10′18″ S, 170°16′09″ W

7. 10°07′52″ S, 169°46′49″ W

8. 10°01′26″ S, 168°31′24″ W

9. 10°12′44″ S, 168°31′01″ W

10. 10°12′49″ S, 168°31′01″ W

11. 10°52′31″ S, 168°29′41″ W

12. 11°02′40″ S, 168°29′20″ W

13. 11°43′53″ S, 168°27′57″ W

14. 12°01′55″ S, 168°10′23″ W

15. 12°28′40″ S, 167°25′19″ W

16. 12°41′22″ S, 167°11′00″ W

17. 12°57′51″ S, 166°52′20″ W

18. 13°11′25″ S, 166°37′01″ W

19. 13°14′03″ S, 166°34′02″ W

20. 13°21′25″ S, 166°25′41″ W

21. 13°35′44″ S, 166°09′18″ W

22. 13°44′56″ S, 165°58′43″ W

23. 14°03′30″ S, 165°37′19″ W

24. 15°00′09″ S, 165°22′06″ W

25. 15°14′04″ S, 165°18′28″ W

26. 15°38′47″ S, 165°12′02″ W

27. 15°44′58″ S, 165°16′35″ W

28. 16°08′42″ S, 165°34′11″ W

29. 16°18′30″ S, 165°41′28″ W

30. 16°23′29″ S, 165°45′10″ W

31. 16°45′30″ S, 166°01′38″ W

32. 17°33′28″ S, 166°38′34″ W

33. 17°33′18″ S, 166°38′31″ W

34. 17°32′55″ S, 166°39′38″ W

35. 17°23′55″ S, 167°06′38″ W

36. 17°10′49″ S, 167°45′27″ W

37. 17°04′39″ S, 168°03′34″ W

38. 17°01′07″ S, 168°13′55″ W

39. 16°47′47″ S, 168°52′31″ W

40. 16°39′00″ S, 169°17′32″ W

41. 16°38′12″ S, 169°19′47″ W

42. 16°38′01″ S, 169°22′25″ W

43. 16°37′04″ S, 169°36′12″ W

44. 16°35′39″ S, 169°55′57″ W

45. 16°36′16″ S, 169°59′13″ W

46. 16°37′23″ S, 170°05′15″ W

47. 16°41′39″ S, 170°28′26″ W

48. 16°43′16″ S, 170°37′28″ W

49. 16°43′49″ S, 170°40′35″ W

50. 16°49′33″ S, 171°13′23″ W

51. 16°50′25″ S, 171°18′19″ W

52. 16°31′48.11″ S, 171°28′51.47″ W

53. 16°07′52.80″ S, 171°42′21.77″ W

54. 15°58′43.10″ S, 171°47′17.22″ W

55. 15°52′35.12″ S, 171°50′44.54″ W

56. 15°18′05.61″ S, 171°38′27.74″ W

57. 15°17′34.11″ S, 171°38′12.88″ W

58. 15°13′02.61″ S, 171°36′04.46″ W

59. 14°52′33.06″ S, 171°26′23.50″ W

60. 14°49′23.43″ S, 171°24′55.36″ W

61. 14°41′10.56″ S, 171°21′06.52″ W

62. 14°38′41.65″ S, 171°19′57.44″ W

63. 14°31′56.96″ S, 171°16′49.84″ W

64. 14°22′44.27″ S, 171°12′34.00″ W

65. 14°19′55.29″ S, 171°11′16.44″ W

66. 14°16′44.35″ S, 171°09′48.69″ W

67. 14°15′05.69″ S, 171°09′03.36″ W

68. 14°13′05.27″ S, 171°08′08.11″ W

69. 14°11′49.35″ S, 171°07′32.78″ W

70. 14°10′03.02″ S, 171°06′43.31″ W

71. 14°05′49.83″ S, 171°04′45.75″ W

72. 14°05′15.40″ S, 171°04′29.77″ W

73. 14°04′51.25″ S, 171°04′18.53″ W

74. 14°04′04.11″ S, 171°03′51.30″ W

75. 14°03′04.48″ S, 171°03′16.90″ W

76. 14°02′41.88″ S, 171°03′05.11″ W

77. 14°01′14.02″ S, 171°02′20.01″ W

78. 13°58′43.31″ S, 171°01′02.79″ W

79. 13°57′50.38″ S, 171°00′35.30″ W

80. 13°56′02.44″ S, 170°59′39.21″ W

81. 13°54′38.87″ S, 170°58′57.53″ W

82. 13°49′58.34″ S, 170°56′41.76″ W

83. 13°46′00.69″ S, 170°55′27.61″ W

84. 13°22′23.46″ S, 170°48′06.12″ W

85. 13°15′34.29″ S, 170°45′57.09″ W

86. 12°43′02.25″ S, 170°34′49.21″ W

87. 12°41′37.51″ S, 170°34′20.28″ W

88. 12°39′25.61″ S, 170°33′26.97″ W

89. 12°36′22.90″ S, 170°32′13.05″ W

90. 12°36′12.20″ S, 170°33′16.15″ W

91. 12°33′42.24″ S, 170°47′35.41″ W

92. 12°32′19.75″ S, 170°55′27.52″ W

93. 12°32′13.78″ S, 170°56′01.58″ W

94. 12°31′59.59″ S, 170°57′22.76″ W

95. 12°31′20.77″ S, 171°01′03.71″ W

96. 12°31′11.41″ S, 171°01′56.87″ W

97. 12°30′11.49″ S, 171°07′37.16″ W

98. 12°29′58.93″ S, 171°08′48.36″ W

99. 12°28′44.85″ S, 171°13′36.05″ W

100. 12°28′23.09″ S, 171°14′59.96″ W

101. 12°27′46.86″ S, 171°17′19.68″ W

102. 12°24′27.18″ S, 171°24′04.14″ W

103. 12°24′18.70″ S, 171°24′21.24″ W

104. 12°24′03.21″ S, 171°24′52.41″ W

105. 12°21′52.31″ S, 171°29′15.86″ W

106. 12°21′05.10″ S, 171°30′50.63″ W

107. 12°19′38.25″ S, 171°33′44.38″ W

108. 12°17′50.68″ S, 171°37′19.43″ W

109. 12°17′35.87″ S, 171°37′48.62″ W

110. 12°15′14.29″ S, 171°42′27.60″ W

111. 12°13′49.06″ S, 171°45′15.04″ W

112. 12°13′08.10″ S, 171°46′34.61″ W

113. 12°12′59.62″ S, 171°46′51.09″ W

114. 12°11′46.51″ S, 171°49′13.22″ W

115. 12°08′10.03″ S, 171°56′11.05″ W

116. 12°05′49.99″ S, 172°00′41.53″ W

117. 12°05′18.21″ S, 172°01′42.91″ W

118. 12°04′36.43″ S, 172°03′03.74″ W

119. 12°03′47.50″ S, 172°04′38.40″ W

120. 12°03′24.47″ S, 172°05′23.02″ W

121. 12°03′13.83″ S, 172°05′43.64″ W

122. 12°00′40.99″ S, 172°10′39.77″ W

123. 11°59′01.54″ S, 172°13′52.46″ W

124. 11°58′09.61″ S, 172°15′32.95″ W

125. 11°58′02.36″ S, 172°15′46.98″ W

126. 11°55′29.21″ S, 172°20′43.52″ W

127. 11°54′47.01″ S, 172°22′05.19″ W

128. 11°54′44.15″ S, 172°22′10.72″ W

129. 11°54′01.01″ S, 172°23′33.80″ W

130. 11°53′42.35″ S, 172°24′09.75″ W

131. 11°46′47.48″ S, 172°37′25.33″ W

132. 11°43′08.82″ S, 172°44′24.37″ W

133. 11°41′14.97″ S, 172°48′02.30″ W

134. 11°40′58.96″ S, 172°48′32.96″ W

135. 11°38′07.51″ S, 172°52′46.28″ W

136. 11°37′52.55″ S, 172°53′08.38″ W

137. 11°26′47.70″ S, 173°09′29.10″ W

138. 11°24′37.04″ S, 173°12′41.58″ W

139. 11°23′37.32″ S, 173°14′09.18″ W

140. 11°22′09.47″ S, 173°16′18.03″ W

141. 11°20′04.25″ S, 173°19′21.79″ W

142. 11°02′21.75″ S, 173°45′13.09″ W

Palmyra Atoll and Kingman Reef

The outer limit of the exclusive economic zone is 200 nautical miles from the baseline from which the breadth of the territorial sea is measured, except that to the southeast and south of Palmyra Atoll and Kingman Reef the limit is defined by straight lines connecting the following points: ¹⁹

¹⁹ Points 1 to 5 correspond to the boundary points set forth in the Treaty between the Government of the United States of America and the Government of the Republic of Kiribati on the Delimitation of Maritime Boundaries (“U.S.-Kiribati Treaty of 2013”), signed September 6, 2013, entered into force July 19, 2019, TIAS 19-719.

1. 2°39′34.8″ N, 163°03′53.0″ W

2. 3°56′06.0″ N, 162°11′14.4″ W

3. 5°52′03.0″ N, 160°47′48.1″ W

4. 7°46′18.5″ N, 159°25′30.9″ W

5. 7°52′44.6″ N, 159°19′52.9″ W

Wake Island

The outer limit of the exclusive economic zone is 200 nautical miles from the baseline from which the breadth of the territorial sea is measured, except that to the south of Wake Island the limit is defined by straight lines connecting the following points:

1. 17°56′14″ N, 169°54′07″ E

2. 17°46′01″ N, 169°31′25″ E

3. 17°37′46″ N, 169°13′00″ E

4. 17°11′17″ N, 168°13′37″ E

5. 16°41′30″ N, 167°07′46″ E

6. 16°02′45″ N, 165°43′37″ E

Jarvis Island

The outer limit of the exclusive economic zone is 200 nautical miles from the baseline from which the breadth of the territorial sea is measured, except that to the north and east of Jarvis Island the limit is defined by straight lines connecting the following points: ²⁰

²⁰ Points 1 to 10 correspond to the boundary points set forth in the U.S.-Kiribati Treaty of 2013 (footnote 19 of this Notice).

1. 1°58′59.8″ N, 162°22′43.6″ W

2. 2°02′31.6″ N, 161°38′46.0″ W

3. 1°43′16.3″ N, 159°39′22.2″ W

4. 0°45′21.7″ N, 158°46′44.3″ W

5. 0°16′35.9″ N, 158°20′58.3″ W

6. 0°01′30.1″ S, 158°05′53.7″ W

7. 1°30′55.4″ S, 156°59′50.8″ W

8. 3°10′47.0″ S, 158°11′08.6″ W

9. 3°16′18.3″ S, 158°18′14.3″ W

10. 3°16′55.3″ S, 158°19′01.7″ W

Howland and Baker Islands

The outer limit of the exclusive economic zone is 200 nautical miles from the baseline from which the breadth of the territorial sea is measured, except that to the southeast and south of Howland and Baker Islands the limit is defined by straight lines connecting the following points: ²¹

²¹ Points 1 to 6 correspond to the boundary points set forth in the U.S.-Kiribati Treaty of 2013 (footnote 19 of this Notice).

1. 3°01′15.0″ S, 177°28′06.9″ W

2. 3°00′53.4″ S, 177°27′10.7″ W

3. 2°56′48.9″ S, 177°17′04.6″ W

4. 0°43′47.1″ S, 173°45′17.4″ W

5. 0°15′54.9″ N, 173°08′34.7″ W

6. 0°16′46.3″ N, 173°08′03.0″ W

Elizabeth Kim,
Director, Office of Ocean and Polar Affairs, Department of State.

[FR Doc. 2023-28158 Filed 12-20-23; 8:45 am]

BILLING CODE 4710-09-P